Title 3—

The President

Proclamation 10528 of March 1, 2023

Read Across America Day, 2023

By the President of the United States of America

A Proclamation

On Read Across America Day, our Nation recognizes the value of literacy to our democracy. We celebrate the books that inspire our children to dream big, expand the limits of their understanding, and explore diverse perspectives and cultures through the eyes of others. We also honor educators, parents, librarians, authors, mentors, and everyone who fosters the power of reading to open doors of opportunity and build greater awareness about the complex world around us.

“The more that you read,” Dr. Seuss wrote, “the more things you will know. The more that you learn, the more places you'll go.” In other words, knowledge is power. Books impart lessons that enrich our lives, stimulate our curiosity, promote contemplation and reflection, and affirm the myriad possibilities available to every person. Reading transports kids to unique places where they can embrace unfamiliar ideas, develop their own intellect, and spark creativity in their lives. Our children are the kite strings that lift our national ambitions, and inspiring them to read is essential to America's future.

Unfortunately, not all children have the same access to empowering books, dynamic instruction, or environments that foster curiosity. Learning disruptions during the COVID-19 pandemic led many American children to miss reading benchmarks—particularly in historically underserved communities.

My Administration is committed to improving literacy across America and supporting the devoted educators on the frontlines of this work. That is why our American Rescue Plan invested a historic $122 billion to help schools reopen safely, promote academic recovery, increase teacher pay, enhance mental health services, and expand afterschool and summer programs. Since I took office, public schools have hired 457,000 educators and staff, including reading specialists, and we continue to take steps to strengthen the teacher pipeline across the country. Meanwhile, my goal is to make 2 years of high-quality preschool available to every child in America. Research shows that children who start school at 3 and 4 years old are far more likely to graduate from high school and continue their education. My Administration is also promoting adult literacy through our Adult Education State grants, which support programs that help adults become better readers, obtain a secondary school diploma, transition to postsecondary education and training, and gain the knowledge and skills necessary for employment and self-sufficiency.

In the words of the First Lady, a lifelong English teacher, “loving to read means loving to learn.” On Read Across America Day and every day, let us nurture our children with the resources and support they need to become proficient and passionate readers. Let us make books accessible, reading fun, and education meaningful. Let us continue striving to put the next generation of Americans on a path of lifelong learning and limitless possibilities.

NOW, THEREFORE, I, JOSEPH R. BIDEN JR., President of the United States of America, by virtue of the authority vested in me by the Constitution and the laws of the United States, do hereby proclaim March 2, 2023, as Read Across America Day. I call upon children, families, educators, librarians, public officials, and all the people of the United States to observe this day with appropriate programs, ceremonies, and activities.

IN WITNESS WHEREOF, I have hereunto set my hand this first day of March, in the year of our Lord two thousand twenty-three, and of the Independence of the United States of America the two hundred and forty-seventh.

[FR Doc. 2023-04616

Filed 3-3-23; 8:45 am]

Billing code 3395-F3-P